DEPARTMENT OF ENERGY

Federal Energy Regulatory Commission

[Docket No. CP12-462-000]

Transcontinental Gas Pipe Line Company, LLC; Notice of Application

Take notice that on May 14, 2012, Transcontinental Gas Pipe Line Company, LLC (Transco), P.O. Box 1396, Houston, Texas 77251-1396, filed in Docket No. CP12-462-000 an application pursuant to Section 7(c) of the Natural Gas Act (NGA) and Part 157 of the Commission's regulations seeking to amend the authorization to operate certain compression facilities in Georgia installed as part of the Mid-South Expansion Project,¹ all as more fully set forth in the application, which is on file with the Commission and open to the public for inspection. This filing may also be viewed on the web at http://www.ferc.gov using the “eLibrary” link. Enter the docket number excluding the last three digits in the docket number field to access the document. For assistance, contact FERC at FERCOnlineSupport@ferc.gov or call toll-free, (886) 208-3676 or TYY, (202) 502-8659.

¹ 136 FERC ¶ 61,129 (2011).

Specifically, Transco requests authorization to amend the authorized operation of its new 15,000 horsepower (HP) electric motor-driven compressor installed at Transco's Compressor Station 125 in Walton County. Transco currently has authority to operate the 15,000 HP electric compressor unit at a maximum of 9,000 HP. Transco now seeks authorization to operate said compressor unit at above 9,000 HP provided that the total horsepower used at Compressor Station 125 does not exceed the station's total certificated horsepower of 49,800 horsepower. Transco states that it would use automated station control systems to limit the total horsepower at Compressor Station 125. Transco also states that this would allow for more efficient operation, increase operational reliability and flexibility, and accommodate schedule maintenance.

Any questions regarding this application should be directed to Bill Hammons, Team Leader, Rates and Regulatory, P.O. Box 1396, Houston, Texas 77251, at (713) 215-2130.

There are two ways to become involved in the Commission's review of this project. First, any person wishing to obtain legal status by becoming a party to the proceedings for this project should, on or before the comment date stated below, file with the Federal Energy Regulatory Commission, 888 First Street NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 14 copies of the protest or intervention to the Federal Energy Regulatory Commission, 888 First Street NE., Washington, DC 20426. See, 18 CFR 385.2001(a)(1)(iii) and the instructions on the Commission's web site under the “e-Filing” link.

Comment Date: June, 7, 2012.

Dated: May 17, 2012.
Kimberly D. Bose,
Secretary.

[FR Doc. 2012-12606 Filed 5-23-12; 8:45 am]

BILLING CODE 6717-01-P